DEPARTMENT OF HEALTH AND HUMAN SERVICES

Centers for Medicare and Medicaid Services

[Document Identifier: CMS-10310]

Emergency Clearance: Public Information Collection Requirements Submitted to the Office of Management and Budget (OMB)

AGENCY: Center for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR 1320(a)(2)(ii). This is necessary to ensure compliance with an initiative of the Administration. We cannot reasonably comply with the normal clearance procedures due to an unexpected event as stated in 5 CFR 1320.13(a). The Centers for Medicare and Medicaid Services (CMS) is requesting that an information collection request (ICR) for Consumer Research on Public Reporting of Hospital Outpatient Measures be processed under the emergency clearance process. Approval of this package is essential in order to comply with Section 1833(t) of the Social Security Act (42 U.S.C. 1395l(t)(17)).

1. Type of Information Collection Request: New collection; Title of Information Collection: Consumer Research on Public Reporting of Hospital Outpatient Measures Use: The Medicare Improvements and Extension Act under Division B of Title I of the Tax Relief and Health Care Act (MIEA-TRHCA) of 2006, enacted in December of 2006, made changes in the Outpatient Prospective Payment System (OPPS). Consequently, CMS is now statutorily required to establish a program under which hospitals will report data on the quality of hospital outpatient care using standardized measures to receive the full annual update to the OPPS payment rate. This will be effective for payments beginning in calendar year (CY) 2009. The program established under these amendments is the Hospital Outpatient Quality Data Reporting Program (HOP QDRP). The measures will expand as additional priority areas for quality improvement in hospital outpatient settings are identified and will be designed to evaluate the diversity of services and clinical topics provided to adult patients in hospital outpatient settings.

The Centers for Medicare & Medicaid Services contracted with L&M Policy Research, LLC (L&M) and its subcontractors, Mathematica Policy Research, Inc. (MPR) and McGee & Evers Consulting (M&E), to conduct exploratory or formative research around the new Hospital Outpatient Measures. Concepts and topics were presented to groups of consumers and caregivers, and to individual physicians. Subsequent to this exploratory or formative research, the research team designed mock-ups of the planned measures, utilizing feedback from the measure developers, the website programmers, plain language experts, and other CMS staff and contractors. The goals of the mock-ups were to integrate the measures into an existing website using the display devices similar to those used for extant measures, but presenting the measures clearly and in such a way that consumers and professionals could draw accurate and useful inferences from the data. The research team and CMS remain concerned about a number of issues in the displays and would like to conduct additional Web site research with consumers, caregivers and professionals to fine tune the recommendations to the website owners and programmers. The team proposes to conduct cognitive interviews with mock-ups and protocols in January 2010 in order to meet Agency deadlines for presentation of the data by June 2010. Form Number: CMS-10310 (OMB#: 0938-New); Frequency: Once; Affected Public: Individuals or Households; Number of Respondents: 104; Total Annual Responses: 104; Total Annual Hours: 41. (For policy questions regarding this collection contact David Miranda 410-786-7819. For all other issues call 410-786-1326.)

CMS is requesting OMB review and approval of this collection by January 15, 2010, with a 180-day approval period. Written comments and recommendations will be considered from the public if received by the individuals designated below by January 13, 2010.

To obtain copies of the supporting statement and any related forms for the proposed paperwork collections referenced above, access CMS' Web site address at http://www.cms.hhs.gov/regulations/pra or e-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by January 13, 2010.

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

3. By Facsimile or E-mail to OMB. OMB, Office of Information and Regulatory Affairs, Attention: CMS Desk Officer, Fax Number: (202) 395-6974, E-mail: OIRA_submission@omb.eop.gov.

Dated: December 22, 2009.
Michelle Shortt,
Director, Regulations Development Group, Office of Strategic Operations and Regulatory Affairs.

[FR Doc. E9-31298 Filed 1-4-10; 8:45 am]

BILLING CODE 4120-01-P